DEPARTMENT OF DEFENSE

Office of the Secretary

Defense Business Board (DBB); Task Group Review of the National Security Personnel System (NSPS)

Agency: Department of Defense.

ACTION: Notice of meeting.

SUMMARY: Under the provisions of the Federal Advisory Committee Act of 1972 (5 U.S.C., Appendix, as amended), the Government in the Sunshine Act of 1976 (5 U.S.C. 552b, as amended), and 41 CFR 102-3.150, the Department of Defense announces the following Federal advisory subcommittee meeting.

DATES: Public meetings of the Defense Business Board's Task Group created to review the NSPS will be held on 25 June 2009 from 1 p.m. to 4 p.m., and on 26 June 2009 from 9 a.m., until 12 noon, resuming from 1 p.m. to 4 p.m.

ADDRESSES: Hyatt-Arlington, 1325 Wilson Blvd., Arlington, VA 22209.

FOR FURTHER INFORMATION CONTACT: For additional information on the meeting and materials, please contact Iona Evans, Task Group on NSPS, 2521 South Clark Street, Room 650, Arlington, VA 22202, Iona.evans@wso.whs.mil, (703) 699-2801. The Board's Designated Federal Officer is Phyllis Ferguson, Defense Business Board, 1155 Defense Pentagon, Room 3C288, Washington, DC 20301-1155, Phyllis.ferguson@osd.mil, (703) 695-7563.

SUPPLEMENTARY INFORMATION:

(a) Background

The mission of the DBB is to advise the Secretary of Defense on effective strategies for implementation of best business practices of interest to the Department of Defense. The Deputy Secretary of Defense requested the DBB to form a Task Group to review NSPS to help the Department determine: (1) If the underlying design principles and methodology for implementation are reflected in the NSPS program objectives; (2) whether the program objectives are being met; and (3) whether NSPS is operating in a fair, transparent, and effective manner. This Task Group is a subcommittee of the Defense Business Board, and pursuant to the Federal Advisory Committee Act of 1972, the Government in Sunshine Act of 1976, and other appropriate federal regulations, this Task Group does not work independently of the Board's charter.

(b) Availability of Materials for the Meeting

A copy of the June 25 and 26 meeting agenda may be obtained from the Board's website at http://www.defenselink.mil/dbb under “NSPS Task Group.” On June 25th the Task Group will invite experts on this topic and who recently testified before Congress. On June 26th the Task Group will hear from select members of the public where the Task Group requires additional information or explanation from previously submitted written comments.

(c) Public's Accessibility to the Meeting

Pursuant to 5 U.S.C. 552b and 41 CFR 102-3.140, and the availability of space, this meeting is open to the public. Seating is on a first-come basis.

(1) Special Accommodations: Individuals requiring special accommodations to access the public meeting should contact Ms. Evans at least five business days prior to the meeting so that appropriate arrangements may be made.

(d) Procedures for Providing Public Comments

Pursuant to 41 CFR 102-3.105(j) and 102-3.140, and section 10(a)(3) of the Federal Advisory Committee Act of 1972, the public or interested organizations may submit written comments to Ms. Phyllis Ferguson, Designated Federal Officer for the Defense Business Board, 2521 South Clark Street, Room 650, Arlington, VA 22202, and this individual will ensure that the written comments are provided to the Task Group for their consideration.

Written comments being submitted in response to the agenda mentioned in this notice must be received by the Designated Federal Officer at the address listed above by June 18, 2009. Written comments received after this date may not be received in time for the NSPS Review Task Group to consider prior to the June 25-26, 2009 meeting.

While individuals are not required to follow any specific format when submitting written comments, it would be beneficial to the Task Group's analysis if those individuals who are submitting written comments consider formatting their comments along the following lines:

1. Classification Architecture (design of pay bands, pay schedules, and career groups);

2. Implementation of NSPS (initial orientation, availability of training, communication with employees);

3. Labor Management Relations (collective bargaining issues);

4. Pay Pool Process (pay pool funding, transparency, fairness, equity, uniformity and consistency across pay pools);

5. Pay Setting (rules/flexibilities for setting pay on reassignments, promotions, new hires, etc.);

6. Pay Structure (pay bands, targeted local market supplement, general salary increases);

7. Performance Management (design of performance management system including performance plans, monitoring performance, performance criteria, rating levels, rating distribution, performance process, communication, reconsideration process, administrative workload);

8. Program Outcomes (mission alignment, results focused, high-performing workforce);

9. Staffing and Employment (appointing authorities, alternative promotion procedures, hiring flexibilities).

In addition and on a voluntary basis, the Task Force would also like those submitting written comments to consider providing the following information: (1) DoD NSPS Employee, (2) DoD NSPS Supervisor, (3) DoD Non-NSPS Employee, (4) Other Federal Government Employee, (5) Non-Federal Government Employee or (6) Interested Organization.

Please note: The Board operates under the provisions of the Federal Advisory Committee Act, as amended; therefore, all public presentations will be treated as public documents and will be made available for public inspection, including being posted on the Board's Web site.

Dated: June 3, 2009.
Patricia L. Toppings,
OSD Federal Register Liaison Officer, Department of Defense.

[FR Doc. E9-13382 Filed 6-8-09; 8:45 am]

BILLING CODE 5001-06-P